DEPARTMENT OF THE INTERIOR

[201D0102DM, DS6CS00000, DLSN00000.000000, DX6CS25 OMB Control No. 1093-NEW]

Agency Information Collection Activities; Emergency Submission for OMB Review; Comment Request; Youth Conservation Corps Application and Medical History

AGENCY: Office of the Secretary, Interior.

ACTION: Notice of request for Office of Management and Budget (OMB) emergency clearance of a collection of information and comments.

SUMMARY: The Department of the Interior (DOI, we) has submitted the following information collection request (ICR) to the OMB for review and clearance utilizing emergency review procedures in accordance with the Paperwork Reduction Act of 1995. We requested emergency review and approval from OMB of a new information collection request (ICR) titled Youth Conservation Corps Application and Medical History under the Paperwork Reduction Act of 1995 (PRA) and its implementing regulations, to be effective for six months beginning February 1, 2020.

DATES: Interested persons are invited to submit comments on or before April 3, 2020.

ADDRESSES: Send your comments on this ICR by mail to Jeffrey Parrillo, Departmental Information Collection Clearance Officer, 1849 C Street NW, Washington, DC 20240; or by email to Jeffrey_Parrillo@ios.doi.gov. Please reference OMB Control Number 1093-YCC in the subject line of your comments.

FOR FURTHER INFORMATION CONTACT: Jeffrey Parrillo, Departmental Information Collection Clearance Officer, 1849 C Street NW, Washington, DC 20240; by telephone at 202-208-7072 or by email to Jeffrey_Parrillo@ios.doi.gov. Please reference OMB Control Number 1090-YCC in the subject line of your comments.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed information collection request (ICR) that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: We are requesting an emergency review and approval from OMB of a new ICR associated with the Youth Conservation Corps (YCC) application process to comply with the requirements of section 3506(c)(2)(A) of the PRA. We are requesting an emergency review under 5 CFR 1320.13 because public harm is reasonably likely to result if the normal clearance procedures are followed. The approval of the YCC application and medical history forms is essential to ensuring completion of agencies' conservation work on public lands. Without an emergency clearance process, collection of applications would not begin until well into the hiring season, resulting in delays of critical conservation projects, some of which are necessary to ensure the safety of visitors to public lands.

Under the Youth Conservation Corps Act of August 13, 1970, as amended (U.S. 18701-1706), the U.S. Department of Interior provides seasonal employment for eligible youth 15 through 18 years old. The Youth Conservation Corps stresses three important objectives:

1. Accomplish needed conservation work on public lands;

2. Provide gainful employment for 15 to 18 year-old males and females from all social, economic, ethnic, and racial backgrounds; and

3. Foster, on the part of the 15 through 18 year-old youth, an understanding and appreciation of the Nation's natural resources and heritage.

Youths seeking training and employment with the Youth Conservation Corps must complete the following new common forms included in this emergency clearance request: DI-4014, “Youth Conservation Corps Application” and DI-4015, “Youth Conservation Corps Medical History.” The applicants' parents or guardians must sign both forms. The application and medical history forms are evaluated by participating agencies to determine the eligibility of each youth for employment with the Youth Conservation Corps. Potential and actual agencies that may use the common forms included in this collection include:

• U.S. Fish and Wildlife Service (Interior);

• National Park Service (Interior); and,

• Other Federal Departments and Agencies such as the U.S. Forest Service (U.S. Department of Agriculture).

We collect the following information via common form DI-4014, “Youth Conservation Corps (YCC) Application”:

• Basic contact information such as name, mailing address, telephone numbers, email address, and parent/guardian contact information;

• Gender;

• Date of birth and age;

• Certification of ability to apply for/provide social security number;

• Citizenship or permanent residency documentation;

• Work permit information;

• Desired work location;

• Where they learned about the program;

• Understanding of the conditions of job/role; and,

• Why they want to enroll in a YCC program.

We collect the following information via common form DI-4015, “Youth Conservation Corps Medical History” form to certify the youth's physical fitness to work in the seasonal employment program:

• Contact information;

• Age;

• date of birth;

• gender;

• emergency contact information;

• parent or guardian's contact information and signature;

• Medical insurance information;

• Medical history including vaccination history;

• Previous and current illnesses or conditions that may affect ability to perform certain tasks;

• Primary language;

• Ethnic background (optional);

• Exercise currently undertaken; and,

• Swimming ability.

Title of Collection: Youth Conservation Corps Application and Medical History.

OMB Control Number: 1093-New.

Form Numbers: DI-4014, “Youth Conservation Corps Application”, and DI-4015, “Youth Conservation Corps Medical History.”

Type of Review: Emergency review—Pursuant to 5 CFR 1320.13, we are requesting emergency processing for this new ICR because it cannot reasonably comply with normal clearance procedures. To avoid delay that could harm visitors to public lands, the YCC application process must be in place and available to interested applicants on February 1, 2020. Upon OMB approval of this emergency clearance request, we will follow the normal clearance procedures for the ICR.

Respondents/Affected Public: Youth 15 through 18 years old seeking seasonal employment with the above-named agencies through the YCC Program. Please note that if an applicant is under the age of 18; a parent/guardian may respond for the youth.

Total Estimated Number of Annual Respondents: 11,409 (8,599 respondents completing the application forms and 2,810 respondents competing the medical history forms).

Total Estimated Number of Annual Responses: 11,409 (8,599 applications and 2,810 medical history forms).

Estimated Completion Time per Response: 25 minutes for the application form and 14 minutes for the medical history form.

Total Estimated Number of Annual Burden Hours: 4,239 hours (3,583 hours (rounded) for application forms and 656 hours (rounded) for medical history forms).

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2020-01818 Filed 1-30-20; 8:45 am]

BILLING CODE 4334-63-P